DEPARTMENT OF HEALTH AND HUMAN SERVICES

Substance Abuse and Mental Health Services Administration

Tribal Listening Session and Tribal Consultation; Notice of Meeting Change

AGENCY: Substance Abuse and Mental Health Services Administration (SAMHSA).

ACTION: Notice of change to tribal consultation.

SUMMARY: Notice is given that the August 29, 2023, virtual meeting SAMHSA Tribal Consultation that was published in the Federal Register on July 11, 2023, (Document Number 2023-14638; pages 44134-4135), will now be a Tribal Listening Session. SAMHSA will host American Indian and Alaska Native (AI/AN) Federally Recognized Tribes for a virtual Tribal listening session on the BEHAVIORAL HEALTH AND SUBSTANCE USE DISORDER RESOURCES FOR NATIVE AMERICANS PROGRAM.

DATES: The virtual SAMHSA Tribal Listening Session will be held on August 29, 2023, from 4:00 p.m.-6:00 p.m. EDT. Registration is required at: https://www.zoomgov.com/meeting/register/vJItfuitqDIvGJb-7z8G5vUTNjXjFDxOG8U. Individuals must register to obtain the call-in number, access code, and/or web access link or request special accommodations for those with disabilities.

Instructions to access the Zoom virtual consultation will be provided in the above link following registration.

FOR FURTHER INFORMATION CONTACT: CAPT Karen Hearod, MSW, LCSW, Director, Office of Tribal Affairs and Policy, Substance Abuse and Mental Health Services Administration, Telephone: (202) 868-9931, Email: otap@samhsa.hhs.gov.

Dated: July 6, 2023.
Carlos Castillo,
Committee Management Officer.

[FR Doc. 2023-16666 Filed 8-3-23; 8:45 am]

BILLING CODE 4162-20-P